ENVIRONMENTAL PROTECTION AGENCY

[EPA-HQ-OAR-2006-0745; FRL-9955-55-OAR]

Proposed Information Collection Request; Comment Request; Reformulated Gasoline Commingling Provisions (Renewal)

AGENCY: Environmental Protection Agency (EPA).

ACTION: Notice.

SUMMARY: The Environmental Protection Agency (EPA) is planning to submit an information collection request (ICR), “Reformulated Gasoline Commingling Provisions” (EPA ICR No 2228.05, OMB Control No. 2060-0587 to the Office of Management and Budget (OMB) for review and approval in accordance with the Paperwork Reduction Act (44 U.S.C. 3501 et seq.). Before doing so, EPA is soliciting public comments on specific aspects of the proposed information collection as described below. This is a renewal of the ICR, which is currently approved through December 31, 2016. An Agency may not conduct or sponsor and a person is not required to respond to a collection of information unless it displays a currently valid OMB control number.

DATES: Comments must be submitted on or before January 23, 2017.

ADDRESSES: Submit your comments, referencing Docket ID No. EPA-HQ-OAR-2006-0745, online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Geanetta Heard, Fuels Compliance Center, 6406J, Environmental Protection Agency, 1200 Pennsylvania Ave. NW., Washington, DC 20460; telephone number: 202-343-9017; fax number: 202-565-2085; email address: heard.geanetta@epa.gov.

SUPPLEMENTARY INFORMATION:

Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: With this information collection request (ICR), the Office of Air and Radiation (OAR) is seeking permission to accept notifications from gasoline retailers and wholesale purchaser-consumers related to commingling of ethanol blended and non-ethanol-blended reformulated gasoline (RFG) under § 1513 of the Energy Policy Act of 2005 (EPAct) and 40 CFR 80.78(a)(8)(ii)(B); and to provide for a compliance option whereby a retailer or wholesale purchaser-consumer may demonstrate compliance via test results under

§ 80.78(a)(8)(iii)(A). These provisions are designed to grant compliance flexibility. Parties were first subject to this recordkeeping and reporting on June 1, 2006.

Section 1513 of the EPAct addresses the combining of ethanol-blended RFG with non-ethanol-blended RFG. This provision amended the Clean Air Act (CAA) to add a new § 211(s) providing retail outlets two ten-day opportunities during a single VOC-control season to blend batches of ethanol-blended and non-ethanol- blended RFG. Under this new section, retail outlets are allowed to sell non-ethanol-blended RFG which has been combined with ethanol blended RFG under certain conditions.

Form Numbers: No.

Respondents/Affected Entities: Gasoline Stations, Gasoline stations with convenience stores, Gasoline stations without convenience stores

Respondent's Obligation to Respond: mandatory Section 114 and 208 of the Clean Air Act (CAA), 42 U.S.C. 7414 and 7542

Estimated Number of Respondents: 39,165 (total).

Frequency of Response: Annually

Total Estimated Burden: 19,116 hours (per year). Burden is defined at 5 CFR 1320.03(b)

Total Estimated Cost: $344,093 (per year), includes $0 annualized capital or operation & maintenance costs.

Changes in Estimates: The change in burden from the prior ICR is due in part to better numbers extracted from business and industry economic statistics that assisted in calculating the numbers of respondents. These better numbers reduced the party size by 5,750 members. The number of responses also declined from 84,050 to 76,465, a difference of 7,585 reports, which reduced the industry burden hours from 21,013 hours to 19,116 hours, a difference of 1,897 hours. With the decline of respondents, burden hours and responses, the cost associated with this ICR is $344,093 a difference of $13,128 calculated from the prior collection approved by OMB.

Dated: November 16, 2016.
Byron Bunker,
Director, Compliance Division, Office of Transportation and Air Quality, Office of Air and Radiation, U.S. Environmental Protection Agency.

[FR Doc. 2016-28260 Filed 11-22-16; 8:45 am]

BILLING CODE 6560-50-P